DEPARTMENT OF HEALTH AND HUMAN SERVICES

Food and Drug Administration

[Docket No. FDA-2010-F-0200]

Fonterra (USA) Inc.; Filing of Food Additive Petition

AGENCY: Food and Drug Administration, HHS.

ACTION: Notice.

SUMMARY: The Food and Drug Administration (FDA) is announcing that Fonterra (USA) Inc. has filed a petition proposing that the food additive regulations be amended to provide for the safe use of hydrogen peroxide in the manufacture of modified whey by the ultrafiltration method.

FOR FURTHER INFORMATION CONTACT: Celeste Johnston, Center for Food Safety and Applied Nutrition (HFS-265), Food and Drug Administration, 5100 Paint Branch Pkwy., College Park, MD 20740-3835, 301-436-1282.

SUPPLEMENTARY INFORMATION: Under the Federal Food, Drug, and Cosmetic Act (sec.409(b)(5) (21 U.S.C. 348(b)(5))), notice is given that a food additive petition (FAP 0A4781) has been filed by Fonterra (USA), Inc., c/o Burdock Group, 801 N. Orange Ave., Suite 710, Orlando FL, 32801. The petition proposes to amend the food additive regulations in part 173—Secondary Direct Food Additives Permitted in Food for Human Consumption (21 CFR part 173) to provide for the safe use of hydrogen peroxide in the manufacture of modified whey by the ultrafiltration method.

The agency has determined under 21 CFR 25.32(r) that this action is of a type that does not individually or cumulatively have a significant effect on the human environment. Therefore, neither an environmental assessment nor an environmental impact statement is required.

Dated: April 23, 2010.
Mitchell A. Cheeseman,
Acting Director, Office of Food Additive Safety, Center for Food Safety and Applied Nutrition.

[FR Doc. 2010-9823 Filed 4-27-10; 8:45 am]

BILLING CODE 4160-01-S